DEPARTMENT OF COMMERCE

National Oceanic and Atmospheric Administration

50 CFR Part 665

RIN 0648-XE284

Pacific Island Pelagic Fisheries; 2016 U.S. Territorial Longline Bigeye Tuna Catch Limits for the Territory of Guam

AGENCY: National Marine Fisheries Service (NMFS), National Oceanic and Atmospheric Administration (NOAA), Commerce.

ACTION: Announcement of a valid specified fishing agreement.

SUMMARY: NMFS announces a valid specified fishing agreement that allocates 1,000 mt of the 2016 bigeye tuna limit for the Territory of Guam to U.S. longline fishing vessels. The agreement supports the long-term sustainability of fishery resources of the U.S. Pacific Islands, and fisheries development in Guam.

DATES: November 21, 2016.

ADDRESSES: Copies of a 2015 environmental assessment (EA), a 2016 supplemental EA (2016 SEA), and a finding of no significant impact, identified by NOAA-NMFS-2015-0140, are available from www.regulations.gov, or from Michael D. Tosatto, Regional Administrator, NMFS Pacific Islands Region (PIR), 1845 Wasp Blvd., Bldg. 176, Honolulu, HI 96818.

Copies of the Fishery Ecosystem Plan for Pelagic Fisheries of the Western Pacific Region (Pelagic FEP) are available from the Western Pacific Fishery Management Council (Council), 1164 Bishop St., Suite 1400, Honolulu, HI 96813, tel. 808-522-8220, fax 808-522-8226, or www.wpcouncil.org.

FOR FURTHER INFORMATION CONTACT: Ariel Jacobs, NMFS PIRO Sustainable Fisheries, 808-725-5182.

SUPPLEMENTARY INFORMATION: In a final rule published on September 14, 2016, NMFS specified a 2016 limit of 2,000 metric tons (mt) of longline-caught bigeye tuna for the U.S. Pacific Island territories of American Samoa, Guam and the Commonwealth of the Northern Mariana Islands (CNMI) (81 FR 63145). Of the 2,000 mt limit, NMFS allows each territory to allocate up to 1,000 mt to U.S. longline fishing vessels identified in a valid specified fishing agreement.

On October 5, 2016, NMFS received from the Council, a completed specified fishing agreement between Guam and Quota Management, Inc. In the transmittal memorandum, the Council's Executive Director noted that the specified fishing agreement was consistent with the criteria set forth in 50 CFR 665.819(c)(1). NMFS reviewed the agreement and determined that it is consistent with the Pelagic FEP, the Magnuson-Stevens Fishery Conservation and Management Act, implementing regulations, and other applicable laws.

In accordance with 50 CFR 300.224(d) and 50 CFR 665.819(c)(9), vessels identified in the agreement may retain and land bigeye tuna in the western and central Pacific Ocean under the Guam limit.

NMFS will begin attributing bigeye tuna caught by vessels identified in the agreement to Guam starting on November 24, 2016. This date is seven days before December 1, 2016, which is the date NMFS forecasted that the fishery would reach the CNMI bigeye tuna allocation. If NMFS determines the fishery will reach the 1,000 mt Guam bigeye tuna attribution limit, we would restrict the retention of bigeye tuna caught by vessels identified in the agreement, and publish a notification to that effect in the Federal Register.

Authority: 16 U.S.C. 1801 et seq.

Dated: November 18, 2016.
Emily H. Menashes,
Acting Director, Office of Sustainable Fisheries, National Marine Fisheries Service.

[FR Doc. 2016-28317 Filed 11-21-16; 11:15 am]

BILLING CODE 3510-22-P